DEPARTMENT OF HOUSING AND URBAN DEVELOPMENT

[Docket No. FR-5932-N-02]

Notice of establishment of the Moving to Work Research Federal Advisory Committee

AGENCY: Office of the Assistant Secretary for Public and Indian Housing, and Office of the Assistant Secretary for Policy Development and Research, HUD.

ACTION: Notice of Establishment of the Moving to Work Research Federal Advisory Committee.

SUMMARY: Pursuant to the Federal Advisory Committee Act, as amended, this provides notice that the Department of Housing and Urban Development (HUD) will establish the Moving to Work Research Federal Advisory Committee (Committee). The Committee will advise HUD on specific policy proposals and methods of research and evaluation for expansion of the Moving to Work (MTW) demonstration, as provided by Congress.

ADDRESSES: The Public is welcome to submit written comment to HUD by electronic mail at MTWAdvisoryCommittee@hud.gov. Comments must be received by May 11, 2016.

FOR FURTHER INFORMATION CONTACT: Office of Public and Indian Housing, U.S. Department of Housing and Urban Development, 451 7th St. SW., Washington, DC 20410, MTWAdvisoryCommittee@hud.gov.

SUPPLEMENTARY INFORMATION:

Background and Authority for the MTW Expansion: The Fiscal Year 2016 Appropriations Act, Section 239 (Public Law 114-113), signed by the President in December 2015, authorizes HUD to expand the MTW demonstration by an additional 100 public housing agencies (PHA) over seven years. Agencies selected as part of the MTW expansion must be high performers, meet certain site selection requirements as described below, and represent geographic diversity across the country.

The key principles for the expansion of the MTW demonstration are to: Simplify, learn, and apply. The vision for the MTW expansion is to learn from MTW interventions in order to improve the delivery of federally assisted housing and promote self-sufficiency for low-income families across the nation. In developing the framework for the MTW expansion, HUD will balance the deregulation desired by the industry with the need for a strong evaluative component. Certain MTW flexibilities will be provided to all new MTW PHAs when they are designated. Other MTW flexibilities will only be available to specific cohorts, depending on which policy will be tested and evaluated by that cohort.

In order to inform the MTW expansion, HUD published a Notice to solicit feedback on the policy proposals and methods of research and evaluation in the Federal Register on April 4, 2016 (81 FR 19233) and anticipates posting a summary of the comments on its Web site in Spring 2016. Today's Federal Register Notice announces the establishment of the Committee, as described below, and HUD plans to hold two conference calls with the Committee throughout this Summer, and will have one in-person meeting in late-Summer 2016. HUD plans to post a Notice to solicit applications for the first cohort of the MTW Expansion in the Fall of 2016. This Notice will include all of the policies to be studied throughout the MTW expansion. The initial cohort of new MTW PHAs will be announced in the Spring/Summer 2017, and additional cohorts will be added through 2020 through additional notices.

Background and Authority for the Committee: Establishment of the Committee implements a statutory requirement of Public Law 114-113. The Committee is governed by the Federal Advisory Committee Act (5 U.S.C. Appendix 2), which sets forth standards for the formation and use of advisory committees. The Committee shall advise HUD on specific policy proposals and methods of research and evaluation related to the expansion of the MTW demonstration to an additional 100 high-performing PHAs.

The Committee shall advise HUD, at the request of the Secretary, on the following: Specific policy proposals and evaluation methods for the MTW demonstration; rigorous research methodologies that will effectively measure the impact of the policy changes identified; policy changes adopted by MTW PHAs that have proven successful and can be applied more broadly to all PHAs; and statutory and/or regulatory changes necessary to implement policy changes for all PHAs. The Committee shall have no role in reviewing or selecting the MTW PHAs. Each year, the Committee shall provide a report to the HUD Secretary that describes the activities, status, and changes in composition of the Committee since the previous year. A draft of the Committee's Charter and Membership Balance Plan can be found on HUD's Web site at www.hud.gov/mtw.

Structure: The Committee shall consist of up to fourteen (14) members, as the Secretary will appoint. Members will be reappointed at the discretion of the Secretary. When appropriate, HUD will provide stipends to members selected as former or current residents of MTW PHAs as compensation for their time. All other members shall serve without compensation.

Membership of the Committee shall include program and research experts from HUD; a fair representation of PHAs with an MTW designation, including current and/or former residents; and independent subject matter experts in housing policy research. No person who is a federally-registered lobbyist may serve on the Committee. Members of the Committee shall be chosen to ensure balance, diversity, and a broad representation of ideas, in accordance with HUD's Membership Balance Plan for the Committee. In general, subject matter expertise in the programs operated by HUD's Office of Public and Indian Housing, and specifically the MTW Demonstration Program, is beneficial in helping the Committee accomplish its mission. Membership on the Committee is personal to the appointee. Committee members representing MTW agency Executive Directors may designate an alternate member of their MTW agency to attend in their place, should they be unable to participate in a Committee meeting.

The Committee will meet in person at least one (1) time per fiscal year and by conference call up to six (6) times as needed to render advice to HUD. Meetings shall be coordinated by a Designated Federal Officer who shall approve the agenda and chair Committee meetings.

Committee members will be required, as applicable, to provide disclosures and certifications regarding conflicts of interest and eligibility for membership prior to final appointment.

Dated: April 19, 2016.
Lourdes Castro Ramírez,
Principal Deputy Assistant Secretary for Public and Indian Housing.
Katherine M. O'Regan,
Assistant Secretary for Policy Development and Research.

[FR Doc. 2016-09754 Filed 4-25-16; 8:45 am]

BILLING CODE 4210-67-P